DEPARTMENT OF TRANSPORTATION

Federal Aviation Administration

Notice of Intent To Rule on Application To Impose and Use the Revenue From a Passenger Facility Charge (PFC) at Oxnard Airport, Oxnard, CA

AGENCY: Federal Aviation Administration (FAA), DOT.

ACTION: Notice of Intent to Rule on Application.

SUMMARY: The FAA proposes to rule and invites public comment on the application to impose and use the revenue from a PFC at Oxnard Airport under the provisions of the Aviation Safety and Capacity Expansion Act of 1990 (Title IX of the Omnibus Budget Reconciliation Act of 1990) (Pub. L. 101-508) and Part 158 of the Federal Aviation Regulations (14 CFR Part 158).

DATES: Comments must be received on or before September 7, 2001.

ADDRESSES: Comments on this application may be mailed or delivered in triplicate to the FAA at the following address: Airports Division, 15000 Aviation Blvd., Room 3024, Lawndale, CA 90261. In addition, one copy of any comments submitted to the FAA must be mailed or delivered to Mr. Scott Smith, Director of Airports of the county of Ventura at the following address: 555 Airport Way, Camarillo, CA 93010. Air carriers and foreign air carriers may submit copies of written comments previously provided to the county of Ventura under § 158.23 of Part 158.

FOR FURTHER INFORMATION CONTACT: Mr. David Delshad, Airports Program Engineer, Standards Section, Airports Division, 15000 Aviation Blvd., Room 3024, Lawndale, CA 90261, Telephone: (310) 725-3627. The application may be reviewed in person at this same location.

SUPPLEMENTARY INFORMATION: The FAA proposes to rule and invites public comment on the application to impose and use the revenue from a PFC at Oxnard Airport under the provisions of the Aviation Safety and Capacity Expansion Act of 1990 (Title IX of the Omnibus Budget Reconciliation Act of 1990) (Pub. L. 101—508) and Part 158 of the Federal Aviation Regulations (14 CFR Part 158). On July 20, 2001, the FAA determined that the application to impose and use the revenue from a PFC submitted by the county of Ventura was substantially complete within the requirements of § 158.25 of Part 158. The FAA will approve or disapprove the application, in whole or in part, no later than October 20, 2001. The following is a brief overview of the impose and use application No. 01-01-C-00-OXR.

Level of proposed PFC: $4.50.

Proposed Charge effective date: December 1, 2001.

Proposed charge expiration date: May 1, 2007.

Total estimated PFC revenue: $872,000.

Brief description of proposed projects: Revise/Amend Update to Airport.

Master Plan and Part 150 Noise Study, Rehabilitate Airport Pavement, Runway 7/25 and Exit Taxiways, Rehabilitate Terminal Loop Road Class or classes of air carriers which the public agency has requested not be required to collect PFCs: Unscheduled Part 135 Air Taxi/Commercial Operators filing FAA Form 1800-31.

Any person may inspect the application in person at the FAA office listed above under FOR INFORMATION CONTACT and at the FAA Regional Airports office located at 15000 Aviation Blvd., Room 3024, Lawndale, CA 90261. In addition, any person may, upon request, inspect the application, notice and other documents germane to the application in person at the county of Ventura, Department of Airports, Administration office.

Issued in Hawthorne, California, on July 20, 2001.
Ellsworth Chan,
Acting Manager, Airports Division, Western-Pacific Region.

[FR Doc. 01-19863 Filed 8-7-01; 8:45 am]

BILLING CODE 4910-13-M